DEPARTMENT OF JUSTICE

Notice of Lodging of Consent Decree Clean Air Act

Notice is hereby given that the United States, on behalf of the United States Environmental Protection Agency lodged a proposed Consent Decree in the United States District Court for the District of Hawaii, in United States v. Chevron U.S.A., Civil Action No. 01-00117 HG/KSC, on February 19, 2001. This Consent Decree resolves the claims of the United States against Chevron U.S.A. (“Chevron”), pursuant to the Clean Air Act (“CAA”), 42 U.S.C. 7611. The Consent Decree concerns Chevron's ownership and operation of two bulk gas terminals on the islands of Hawaii and Maui, Hawaii, and a refinery on the island of Oahu, Hawaii.

The Consent Decree provides that Chevron will pay $650,000 as a penalty to the United States, will undertake a Supplemental Environmental Project of at least $150,000 at its Port Allen bulk gas Terminal on the island of Kauai, Hawaii, and will undertake injunctive work at its Kahului bulk gas terminal on the island of Maui, Hawaii. The Consent Decree further provides that the United States covenants not to bring a civil action or take administrative action against Chevron pursuant to the CAA, 42 U.S.C. 7611, for violations of the Act alleged in the Complaint which was simultaneously filed with the court.

The Department of Justice will receive, for a period of thirty (30) days from the date of this publication, comments relating to the proposed Consent Decree. Comments should be addressed to the Assistant Attorney General for the Environment and Natural Resources Division, Department of Justice, Washington, D.C. 20530, and should refer to United States v. Chevron U.S.A., DOJ #90-90-5-2-1-2187.

The proposed Consent Decree may be examined at the United States Attorney's Office, District of Hawaii, PJKK Federal Building, 300 Ala Mona Blvd., Honolulu, Hawaii 96850. A copy of the proposed Consent Decree may be obtained by mail from the Department of Justice Consent Decree Library, PO Box 7611, Washington, DC 20044. In requesting a copy, please refer to the reference number given above and enclose a check in the amount of $7.25 (25 cents per page reproduction costs), payable to the Consent Decree Library.

Ellen M. Mahan,
Assistant Section Chief, Environmental Enforcement Section, Environment and Natural Resources Division.

[FR Doc. 01-5483 Filed 3-6-01; 8:45 am]

BILLING CODE 4410-15-M